DEPARTMENT OF COMMERCE

National Oceanic and Atmospheric Administration

RIN 0648- XX69

Marine Mammals; File Nos. 14451, 14353, and 13846

AGENCY: National Marine Fisheries Service (NMFS), National Oceanic and Atmospheric Administration (NOAA), Commerce.

ACTION: Notice; receipt of applications for permit amendments.

SUMMARY: Notice is hereby given that Joseph Mobley, Jr., University of Hawaii at Manoa, 2528 McCarthy Mall, Honolulu, HI 96816; Ann Zoidis, Cetos Research Organization, 33 Echo Ave., Suite 5, Oakland, CA 94611; and Jim Darling, Ph.D., Whale Trust, P.O. Box 384, Tofino, BC V0R2Z0, Canada, have applied for amendments to Scientific Research Permit Nos. 14451, 14353, and 13846, respectively.

DATES: Written, telefaxed, or email comments must be received on or before February 14, 2013.

ADDRESSES: The application and related documents are available for review by selecting “Records Open for Public Comment” from the Features box on the Applications and Permits for Protected Species home page, https://apps.nmfs.noaa.gov, and then selecting the appropriate File No. from the list of available applications.

These documents are also available upon written request or by appointment in the following offices:

Permits and Conservation Division, Office of Protected Resources, NMFS, 1315 East-West Highway, Room 13705, Silver Spring, MD 20910; phone (301) 427-8401; fax (301) 713-0376; and

Pacific Islands Region, NMFS, 1601 Kapiolani Blvd., Rm 1110, Honolulu, HI 96814-4700; phone (808) 944-2200; fax (808) 973-2941.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Kristy Beard or Carrie Hubard, (301) 427-8401.

SUPPLEMENTARY INFORMATION: The subject amendments are requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

Permit No. 14451, issued on July 14, 2010 (75 FR 43151), authorizes the permit holder, Joseph Mobley, Jr., to study cetaceans off the east and west coast of the United States, Hawaii, Alaska, Guam, and the Mariana Islands. Researchers target numerous cetacean species including endangered blue whales (Balaenoptera musculus), fin whales (B. physalus), humpback whales (Megaptera novaeangliae), sei whales (B. borealis), and sperm whales (Physeter macrocephalus), during aerial and vessel surveys for photo-identification, videography, and behavioral observations. The permit includes authorization under the MMPA to take 205 false killer whales (Pseudorca crassidens) in Pacific waters off of Hawaii. Insular Hawaiian false killer whales were listed as endangered under the ESA in November 2012; therefore, the permit holder now requires authorization under the ESA to take Insular Hawaiian false killer whales. The permit holder is requesting the permit be amended to allocate 180 of the false killer whale takes currently authorized under the MMPA to Insular Hawaiian false killer whales.

Permit No. 14353, issued on July 14, 2010 (75 FR 43151), authorizes the permit holder, Ann Zoidis, Cetos Research Organization, 33 Echo Ave., Suite 5, Oakland, CA 94611, to conduct scientific research on humpback and minke (B. acutorostrata) whales in Hawaiian waters. Research occurs annually from January through March. Humpback whale research is focused in the Au'au Channel near Maui. Research activities include photo-identification, behavioral observations, passive acoustic recording, and underwater photo/videography. Suction cup tags are deployed on humpback whales. Minke whales are approached for photo-identification anywhere within the main Hawaiian islands. The permit includes authorization under the MMPA for the incidental harassment of up to 1,000 false killer whales during activities in Pacific waters off of Hawaii. Insular Hawaiian false killer whales were listed as endangered under the ESA in November 2012; therefore, the permit holder now requires authorization under the ESA to take Insular Hawaiian false killer whales. The permit holder is requesting the permit be amended to include ESA authorization for the incidental harassment of Insular Hawaiian false killer whales and to expand the geographic area throughout the Hawaiian Islands, including the Northwestern Hawaiian Islands (NWHI) chain.

Permit No. 13846, issued on July 14, 2010 (75 FR 43151), authorizes the permit holder, Jim Darling, Ph.D., Whale Trust, P.O. Box 384, Tofino, BC V0R2Z0, Canada, to study humpback whales in Hawaii (primarily off west Maui) and humpback and Eastern gray (Eschrichtius robustus) whales along the coastlines of Washington and Alaska. Researchers may conduct photo-identification, passive acoustic recording, behavioral observation (by vessel, underwater and aerial), videorecording, collection of sloughed skin, photogrammetry, biopsy sampling, playback experiments, and/or suction cup and implant tagging of target whales. The permit includes authorization under the MMPA for the incidental harassment of up to 150 false killer whales during playback experiments in Pacific waters off Hawaii. Insular Hawaiian false killer whales were listed as endangered under the ESA in November 2012; therefore, the permit holder now requires authorization under the ESA to take Insular Hawaiian false killer whales. The permit holder is requesting the permit be amended to include ESA authorization for the incidental harassment of Insular Hawaiian false killer whales.

In compliance with the National Environmental Policy Act of 1969 (42 U.S.C. 4321 et seq.), an initial determination has been made that the activities proposed are consistent with the Proposed Action Alternative in the Environmental Assessment for the Issuance of Scientific Research Permits for Research on Humpback Whales and Other Cetaceans (NMFS 2010). Based on the analyses in the EA, NMFS determined that issuance of the permits would not significantly impact the quality of the human environment and that preparation of an environmental impact statement was not required. That determination is documented in a Finding of No Significant Impact (FONSI), signed on July 14, 2010. The EA and FONSI are available upon request.

P. Michael Payne,
Chief, Permits and Conservation Division, Office of Protected Resources, National Marine Fisheries Service.

[FR Doc. 2013-00612 Filed 1-14-13; 8:45 am]

BILLING CODE 3510-22-P